DEPARTMENT OF HEALTH AND HUMAN SERVICES

Administration for Children and Families

Proposed Information Collection Activity; Evaluation of the Child Welfare Capacity Building Collaborative (0970-0576)

AGENCY: Children's Bureau, Administration for Children and Families, HHS.

ACTION: Request for public comment.

SUMMARY: The Children's Bureau, Administration for Children and Families (ACF), U.S. Department of Health and Human Services (HHS), is proposing to collect additional data for an evaluation of the services provided to child welfare jurisdictions and Court Improvement Programs (CIPs) by the Child Welfare Capacity Building Collaborative. This new data collection is the second part of a data collection effort already underway (OMB #0970-0576, expiration 9/30/2024). This notice details the second group of instruments that will be used for data collection as part of this evaluation.

DATES: Comments due within 60 days of publication. In compliance with the Paperwork Reduction Act of 1995, ACF is soliciting public comment on the specific aspects of the information collection described above.

ADDRESSES: Copies of the proposed collection of information can be obtained and comments may be forwarded by emailing infocollection@acf.hhs.gov. Identify all requests by the title of the information collection.

SUPPLEMENTARY INFORMATION: Description: The Capacity Building Collaborative includes three centers (Center for States, Center for Tribes, Center for Courts) funded by the Children's Bureau to provide national child welfare expertise and evidence-informed training and technical assistance services to state, tribal and U.S. territorial public child welfare agencies, and CIPs. The Centers offer services including Web-based content and resources, product development and dissemination, self-directed and group-based training, virtual learning and peer networking events, and tailored consultation, coaching, and facilitation (“tailored services”). Centers' services are being evaluated by three Center-specific evaluations and a cross-Center evaluation. The cross-Center evaluation examines collaboration among Centers and with federal staff, services delivered by the Centers, service recipient satisfaction with service quality, federal staff's experiences of assessment and work planning services offered by the Centers, effectiveness of Center services, how Centers apply a common “change management approach” in their work, what affects engagement with Center services, and the costs of Center services. The Center for States' evaluation consists of data collection around two research questions focusing on understanding usefulness, relevance, and satisfaction from a stakeholder perspective as well as outcomes of services. The Center for Tribes' evaluation examines the extent to which the Center provides effective, culturally responsive services that meet the needs of tribal child welfare programs, the satisfaction of service recipients with service quality, and service outcomes for tribal child welfare programs and stakeholders. The Center for Courts' evaluation assesses satisfaction with and effectiveness of service delivery; progress toward meeting Center goals and the needs of CIP to promote continuous quality improvement (CQI); and increased knowledge, collaboration, and capacity to improve court performance and child and family outcomes.

An initial set of instruments was approved and are currently in use for these evaluations. For information about these instruments, see: https://www.reginfo.gov/public/do/PRAViewICR?ref_nbr=202105-0970-015. These instruments will continue to be used for data collection through July 2024.

The second group of data sources proposed include (1) a guide for conducting focus groups with teams of child welfare and CIP staff implementing tailored service projects with Center support (one version for use with states and one version for use with CIP); (2) a protocol to collect interview data from Center tailored service providers (known as Liaisons or Child Welfare Specialists) about their service provision experiences, relationships and interactions with jurisdictions and federal staff, perceptions of their role, and their Centers' approach to diversity, equity, and inclusion (DEI) services; (3) a protocol to collect interview data from jurisdiction staff implementing tailored service projects about how Centers' technical assistance addresses diversity, equity, and inclusion; (4) a protocol to collect interview/focus group data from tribal child welfare program staff about strategies and contextual factors associated with achievement of program goals, the capacity to use data for CQI and evaluation, and the outcomes of services delivered by Center for Tribes; and (5) a survey to collect feedback from CIP directors/coordinators about the CIP's experiences and satisfaction with capacity building services delivered by the Center for Courts, and the perceived impact on CIP capacity.

Respondents: Respondents to the data collection instruments will include (1) child welfare and judicial professionals that receive Center services and (2) Center tailored service providers.

Annual Burden Estimates

The following details the burden associated with the new instruments. For burden currently approved and ongoing, visit https://www.reginfo.gov/public/do/PRAViewICR?ref_nbr=202105-0970-015.

Instrument | Total number of respondents | Total number of responses per respondent | Average burden hours per response | Total burden hours | Annual burden hours
Cross-Center: Tailored Services Team Focus Group Guide (for states) | 50 | 1 | 1 | 50 | 17
Cross-Center: Tailored Services Team Focus Group Guide (for CIPs) | 25 | 1 | 1 | 25 | 8
Cross-Center: Liaison/Child Welfare Specialist Interview Protocol | 23 | 1 | 1 | 23 | 8
Cross-Center: Tailored Services Jurisdiction Staff DEI Interview Protocol | 30 | 1 | .75 | 23 | 8
Center for Tribes: Jurisdiction Staff Interviews | 25 | 2 | 1 | 50 | 17
Center for Tribes: Jurisdiction Staff Focus Groups | 25 | 3 | 1.5 | 113 | 38
Center for Courts: CIP Capacity Building Services Feedback Survey | 53 | 2 | .25 | 27 | 9

Estimated Total Annual Burden Hours: 105.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 5106, Pub. L. 111-320, the Child Abuse Prevention and Treatment Act Reauthorization Act of 2010, and titles IV-B and IV-E of the Social Security Act.

Mary B. Jones,
ACF/OPRE Certifying Officer.

[FR Doc. 2022-02297 Filed 2-3-22; 8:45 am]

BILLING CODE 4184-44-P